DEPARTMENT OF LABOR

Employee Benefits Security Administration

Proposed Extension of Information Collection; Comment Request; Prohibited Transaction Class Exemptions for Multiple Employer Plans and Multiple Employer Apprenticeship Plans, PTE 76-1, PTE 77-10, PTE 78-6.

ACTION: Notice

SUMMARY: The Department of Labor, as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This program helps to ensure that the Department can properly assess the impact of its information collection requirements on respondents and minimize the reporting burden (time and financial resources) on the public and that the public can understand the Department's collection instruments and provide the requested data in the desired format. Currently, the Employee Benefits Security Administration is soliciting comments concerning the information collections incorporated in three related prohibited transactions class exemptions (PTEs) that apply to certain transactions involving collectively bargained multiple employer plans. A copy of the information collection request (ICR) may be obtained by contacting the office listed in the Addresses section of this notice.

DATES: Written comments must be submitted to the office shown in the addresses section below on or before June 27, 2006.

ADDRESSES: Direct all written comments to Susan G. Lahne, Office of Policy and Research, Employee Benefits Security Administration, U.S. Department of Labor, 200 Constitution Avenue NW., Room N-5718, Washington, DC 20210, (210) 693-8410, FAX (202) 219-4745 (the foregoing are not toll-free numbers). Comments may also be submitted electronically to the following Internet e-mail address: ebsa.opr@dol.gov.

SUPPLEMENTARY INFORMATION:

I. Background

This ICR covers information collections contained in three related prohibited transaction class exemptions: PTE 76-1, PTE 77-10, and PTE 78-6. All three of these exemptions cover transactions that were recognized by the Department as being well-established, reasonable and customary transactions in which collectively bargained multiple employer plans (principally, multiemployer plans, but also including other collectively bargained multiple employer plans) frequently engage in order to carry out their purposes.

PTE 76-1 provides relief, under specified conditions, for three types of transactions: (1) Part A of PTE 76-1 permits collectively bargained multiple employer plans to take several types of actions regarding delinquent or uncollectible employer contributions; (2) Part B of PTE 76-1 permits collectively bargained multiple employer plans, under specified conditions, to make construction loans to participating employers; and (3) Part C of PTE 76-1 permits collectively bargained multiple employer plans to share office space and administrative services, and the costs associated with such office space and services, with parties in interest. PTE 77-10 complements Part C of PTE 76-1 by including, with respect to collectively bargained multiple employer plans' sharing office space and administrative services with parties in interest, relief from the prohibitions of subsection 406(b)(2) of ERISA, under specific conditions. PTE 78-6 provides an exemption to collectively bargained multiple employer apprenticeship plans for the purchase or leasing of personal property from a contributing employer (or its wholly owned subsidiary) and for the leasing of real property (other than office space within the contemplation of section 408(b)(2) of ERISA) from a contributing employer (or its wholly owned subsidiary) or an employee organization any of whose members' work results in contributions being made to the plan.

Each of these three PTEs requires, as part of its conditions, either written agreements, recordkeeping, or both. The Department has combined the information collection provisions of the three PTEs into one information collection request (ICR) because it believes that the public benefits from having the opportunity to collectively review these closely related exemptions and their similar information collections. The Department previously submitted an ICR to the Office of Management and Budget (OMB) for approval of the information collections in PTEs 76-1, 77-10, and 78-6 and received OMB approval under the OMB Control No. 1210-0058. The current approval is scheduled to expire on July 31, 2006.

II. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., by permitting electronic submission of responses.

III. Current Action

This notice requests comments on the proposed extension of the approval of the ICR relating to PTEs 76-1, 77-10, and 78-6. The Department is not proposing or implementing changes to the existing information collection requirements at this time. The following summarizes the ICR and the current burden estimates:

Type of Review: Extension of a currently approved collection of information.

Agency: Employee Benefits Security Administration, Department of Labor.

Titles: Prohibited Transaction Class Exemptions for Multiple Employer Plans and Multiple Employer Apprenticeship Plans, PTCE 76-1, PTCE 77-10, PTCE 78-6.

OMB Number: 1210-0058.

Affected Public: Business or other for-profit; Not-for-profit institutions.

Respondents: 3,442.

Frequency of Response: On occasion.

Responses: 5,326.

Estimated Total Burden Hours: 1,225.

Comments submitted in response to this notice will be summarized and/or included in the request for OMB approval of the information collection request; they will also become a matter of public record.

Dated: April 19, 2006.
Susan G. Lahne,
Office of Policy and Research, Employee Benefits Security Administration.

[FR Doc. E6-6397 Filed 4-27-06; 8:45 am]

BILLING CODE 4510-29-P